DEPARTMENT OF HEALTH AND HUMAN SERVICES

National Institutes of Health

National Heart, Lung, and Blood Institute; Notice of Closed Meetings

Pursuant to section 10(d) of the Federal Advisory Committee Act, as amended (5 U.S.C. Appendix 2), notice is hereby given of the following meetings.

The meetings will be closed to the public in accordance with the provisions set forth in sections 552b(c)(4) and 552b(c)(6), Title 5 U.S.C., as amended. The grant applications and/or contract proposals and the discussions could disclose confidential trade secrets or commercial property such as patentable material, and personal information concerning individuals associated with the grant applications and/or contract proposals, the disclosure of which would constitute a clearly unwarranted invasion of personal privacy.

Name of Committee: National Heart, Lung, and Blood Institute Special Emphasis Panel Fluorescent Indicator Dyes for Extracellular Ions (SBIR).

Date: May 4, 2000.

Time: 9:00 AM to 11:00 AM.

Agenda: To review and evaluate contract proposals.

Place: 6701 Rockledge Drive, Room 4212, Bethesda, MD 20817 (Telephone Conference Call).

Contact Person: David T. George, PhD, Review Branch, NIH, NHLBI, DEA, Rockledge II, 6701 Rockledge Drive, Suite 7188, Bethesda, MD 20892-7924, (301) 435-0280

.

Name of Committee: National Heart, Lung, and Blood Institute Special Emphasis Panel SCOR in Transfusion Biology and Medicine.

Date: June 8, 2000.

Time: 7:30 AM to 6:00 PM.

Agenda: To review and evaluate grant applications.

Place: Holiday Inn—Silver Spring, 8777 Georgia Avenue, Silver Spring, MD 20910.

Contact Person: Deborah P. Beebe, PhD, Leader, Cardiology/Pulmonary Scientific Review Group, Rockledge Center II, 6701 Rockledge Drive, Suite 7178, Bethesda, MD 20892-7924, (301) 435-0270

.

(Catalogue of Federal Domestic Assistance Program Nos. 93.233, National Center for Sleep Disorders Research; 93.837, Heart and Vascular Diseases Research; 93.838, Lung Diseases Research; 93.839, Blood Diseases and Resources Research, National Institutes of Health, HHS)

Dated: April 7, 2000.
Anna Snouffer,
Acting Director, Office of Federal Advisory Committee Policy.

[FR Doc. 00-9439 Filed 4-14-00; 8:45 am]

BILLING CODE 4140-01-M